DEPARTMENT OF HEALTH AND HUMAN SERVICES

Administration for Children and Families

Proposed Information Collection Activity; Racial and Ethnic Disparities in Human Services Analysis Execution Project (New Collection)

AGENCY: Office of Planning, Research, and Evaluation, Administration for Children and Families, Health and Human Services (HHS).

ACTION: Request for public comments.

SUMMARY: The Administration for Children and Families (ACF) at the U.S. Department of Health and Human Services (HHS) is proposing to collect data to explore how one state's changes to Temporary Assistance for Needy Families (TANF) policies and services in response to the COVID-19 pandemic were experienced by different racial and ethnic groups in that state. The goal is to obtain an in-depth understanding of how TANF participants of different racial and ethnic backgrounds experienced these policy and programmatic changes by comparing those experiences within one state, and to assess whether those changes may have helped to ameliorate challenges around program and benefit access for different populations or potentially created new challenges.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The Racial and Ethnic Disparities in Human Services Analysis Execution project is proposing to collect information for a qualitative study to explore how families of different ethnic and racial backgrounds have experienced changes that one state made to TANF policies and services in response to the COVID-19 pandemic. We will explore policies such as job-search and other participation requirements, virtual resources and services, and the provision of tablet computers to TANF participants. We will collect information at the state level and from three purposively selected sites in one state, selected to represent the racial and ethnic diversity within the state. The state-level data collection will include (1) TANF program administrators and (2) representatives from the program partnering with the state in the provision of tablet computers to TANF program participants. Information collection at each of the three sites will include semi-structured interviews or focus groups with: (1) TANF program administrators, frontline staff, and participants; and (2) community partner organizations that serve TANF-eligible families and individuals served by those organizations. Site visits will be conducted in-person or virtually, depending on the state of the COVID-19 pandemic at the time of the site visits.

This study is part of a larger project to help ACF identify racial and ethnic disparities related to the delivery of human services.

This study is intended to present an internally-valid description of how different racial and ethnic groups experience TANF policies, practices, and service delivery in one state at selected sites, not to promote statistical generalization to other sites or service populations.

Respondents: (1) State and regional TANF agency administrators, (2) TANF frontline staff at the site-level, (3) staff at community agencies that serve TANF-eligible families, (4) staff from the computer tablet program and from program partner organizations, (5) TANF participants, (6) tablet program participants, and (7) individuals who are eligible for TANF but not enrolled.

Annual Burden Estimates
Instrument | Number of respondents (total over request period) | Number of responses per respondent (total over request period) | Avg. burden per response (in hours) | Total burden (in hours) | Annual burden (in hours)
Instrument A: State and Regional TANF Administrators Guide (Interviews) | 8 | 1 | 1 | 8 | 4
Instrument B: Local Frontline Staff Guide (Interviews) | 10 | 1 | 1 | 10 | 5
Instrument B: Local Frontline Staff Guide (Focus Groups) | 10 | 1 | 1.5 | 15 | 8
Instrument C: Community-Based Organizations Guide (Interviews) | 6 | 1 | 1 | 6 | 3
Instrument D: Tablet Providers and Program Partners Guide (Interviews) | 6 | 1 | 1 | 6 | 3
Instrument E: TANF Participants Guide (Interviews) | 40 | 1 | 1 | 40 | 20
Instrument E: TANF Participants Guide(Focus Groups) | 20 | 1 | 1.5 | 30 | 15
Instrument F: Tablet Program Participants Guide (Focus Groups) | 10 | 1 | 1.5 | 15 | 8
Instrument G: Individuals Eligible but Not Receiving TANF Guide (Interviews) | 15 | 1 | 1 | 15 | 8
Instrument G: Individuals Eligible but Not Receiving TANF Guide (Focus Groups) | 15 | 1 | 1.5 | 23 | 12

Estimated Total Annual Burden Hours: 86.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the FY 2017 Consolidated Appropriations Act, 2017 (Pub. L. 115-31).

Mary B. Jones,
ACF/OPRE Certifying Officer.

[FR Doc. 2022-15057 Filed 7-13-22; 8:45 am]

BILLING CODE 4184-09-P